SOCIAL SECURITY ADMINISTRATION

The Ticket to Work and Work Incentives Advisory Panel Meeting

AGENCY: Social Security Administration (SSA).

ACTION: Notice of quarterly and strategic planning meeting

DATES:

Monday, May 23, 2005—1 p.m. to 6:30 p.m.

Tuesday, May 24, 2005—9 a.m. to 6 p.m.

Wednesday, May 25, 2005—9 a.m. to 5 p.m.

Thursday, May 26, 2005—9 a.m. to 12 p.m.

ADDRESSES: Sheraton National Hotel, 900 S. Orme Street, Arlington, VA 22202.

SUPPLEMENTARY INFORMATION: Type of meeting: On May 23-26, 2005, the Ticket to Work and Work Incentives Advisory Panel (the “Panel”) will hold a quarterly and strategic planning meeting open to the public.

Purpose: In accordance with section 10(a)(2) of the Federal Advisory Committee Act, the Social Security Administration (SSA) announces a meeting of the Ticket to Work and Work Incentives Advisory Panel. Section 101(f) of Pub. L. 106-170 establishes the Panel to advise the President, the Congress, and the Commissioner of SSA on issues related to work incentive programs, planning, and assistance for individuals with disabilities as provided under section 101(f)(2)(A) of the Act. The Panel is also to advise the Commissioner on matters specified in section 101(f)(2)(B) of that Act, including certain issues related to the Ticket to Work and Self-Sufficiency Program established under section 101(a).

Interested parties are invited to attend the meeting. The Panel will use the meeting time to receive briefings and presentations on matters of interest, conduct full Panel deliberations on the implementation of the Act and receive public testimony.

The Panel will meet in person commencing on Monday, May 23, 2005, from 1 p.m. until 6:30 p.m. The quarterly meeting will continue on Tuesday, May 24, 2005, from 9 a.m. until 6 p.m. The Panel will meet in person for a strategic planning meeting on Wednesday, May 25, 2005, from 9 a.m. until 5 p.m., continuing on Thursday, May 26, 2005, from 9 a.m. until 12 p.m.

Members of the public must schedule a time slot in order to comment. In the event public comments do not take the entire scheduled time period, the Panel may use that time to deliberate or conduct other Panel business. Public testimony will be heard on Monday, May 23, 2005, from 5:30 p.m. until 6:30 p.m. and Tuesday, May 24, 2005, from 9 a.m. until 9:30 a.m. and 4:30 p.m. until 5 p.m. Individuals interested in providing testimony in person should contact the Panel staff as outlined below to a schedule time slot. Each presenter will be acknowledged by the Chair in the order in which they are scheduled to testify and is limited to a maximum five-minute, verbal presentation.

Full written testimony on the Implementation of the Ticket to Work and Work Incentives Program, no longer than five (5) pages, may be submitted in person or by mail, fax or e-mail on an on-going basis to the Panel for consideration.

Since seating may be limited, persons interested in providing testimony at the meeting should contact the Panel staff by e-mailing Ms. Shirletta Banks, at Shirletta.banks@ssa.gov or by calling (202) 358-6430.

The full agenda for the meeting will be posted on the Internet at http://www.ssa.gov/work/panel at least one week before the starting date or can be received, in advance, electronically or by fax upon request.

Contact Information: Records are kept of all proceedings and will be available for public inspection by appointment at the Panel office. Anyone requiring information regarding the Panel should contact the staff by:

Mail addressed to the Social Security Administration, Ticket to Work and Work Incentives Advisory Panel Staff, 400 Virginia Avenue, SW., Suite 700, Washington, DC 20024.

Telephone contact with Debra Tidwell-Peters at (202) 358-6430. Fax at (202) 358-6440. E-mail to TWWIIAPanel@ssa.gov.

Dated: May 2, 2005.
Debra Tidwell-Peters,
Designated Federal Officer.

[FR Doc. 05-9278 Filed 5-9-05; 8:45 am]

BILLING CODE 4191-02-P